DEPARTMENT OF TRANSPORTATION

Federal Aviation Administration

14 CFR Part 39

[Docket No. FAA-2017-0711; Product Identifier 2017-NM-003-AD; Amendment 39-19227; AD 2018-06-07]

RIN 2120-AA64

Airworthiness Directives; The Boeing Company Airplanes

AGENCY: Federal Aviation Administration (FAA), DOT.

ACTION: Final rule.

SUMMARY: We are adopting a new airworthiness directive (AD) for certain The Boeing Company Model 757-200, -200CB, and -300 series airplanes. This AD was prompted by a report of fatigue cracking found in a certain fuselage frame, which severed the inner chord and web. This AD requires inspecting the fuselage frame for existing repairs, repetitive inspections, and applicable repairs. We are issuing this AD to address the unsafe condition on these products.

DATES: This AD is effective May 3, 2018.

The Director of the Federal Register approved the incorporation by reference of certain publications listed in this AD as of May 3, 2018.

ADDRESSES: For service information identified in this final rule, contact Boeing Commercial Airplanes, Attention: Contractual & Data Services (C&DS), 2600 Westminster Blvd., MC 110-SK57, Seal Beach, CA 90740; telephone: 562-797-1717; internet: https://www.myboeingfleet.com. You may view this service information at the FAA, Transport Standards Branch, 2200 South 216th St., Des Moines, WA. For information on the availability of this material at the FAA, call 206-231-3195. It is also available on the internet at http://www.regulations.gov by searching for and locating Docket No. FAA-2017-0711.

Examining the AD Docket

You may examine the AD docket on the internet at http://www.regulations.gov by searching for and locating Docket No. FAA-2017-0711; or in person at the Docket Management Facility between 9 a.m. and 5 p.m., Monday through Friday, except Federal holidays. The AD docket contains this final rule, the regulatory evaluation, any comments received, and other information. The address for the Docket Office (phone: 800-647-5527) is Docket Management Facility, U.S. Department of Transportation, Docket Operations, M-30, West Building Ground Floor, Room W12-140, 1200 New Jersey Avenue SE, Washington, DC 20590.

FOR FURTHER INFORMATION CONTACT: Chandra Ramdoss, Aerospace Engineer, Airframe Section, FAA, Los Angeles ACO Branch, 3960 Paramount Boulevard, Lakewood, CA 90712-4137; phone: 562-627-5239; fax: 562-627-5210; email: chandraduth.ramdoss@faa.gov.

SUPPLEMENTARY INFORMATION:

Discussion

We issued a notice of proposed rulemaking (NPRM) to amend 14 CFR part 39 by adding an AD that would apply to certain The Boeing Company Model 757-200, -200CB, and -300 series airplanes. The NPRM published in the Federal Register on July 27, 2017 (82 FR 34888). The NPRM was prompted by a report of fatigue cracking found in a certain fuselage frame, which severed the inner chord and web. The NPRM proposed to require inspecting the fuselage frame for existing repairs, repetitive inspections, and applicable repairs. We are issuing this AD to detect and correct cracking of the fuselage frame at station (STA) 1640, which could result in reduced structural integrity of the airplane.

Comments

We gave the public the opportunity to participate in developing this final rule. The following presents the comments received on the NPRM and the FAA's response to each comment.

Support for the NPRM

Aviation Partners Boeing concurs with the content of the NPRM.

Request To Clarify Certain Exceptions

Boeing asked that we clarify the service information exceptions in paragraph (h)(2) of the proposed AD by noting that Aviation Partners Boeing (APB) Alert Service Bulletin AP757-53-001, Revision 1, dated June 21, 2017, is subject to this exception only if applicable (if winglets are installed on the airplane). Boeing also stated that paragraph (h)(2) of the proposed AD should put the required compliance time “after the effective date of this AD” in quotations to designate the content being substituted for the quoted service information compliance time statements.

We agree with the commenter's request. We have separated the exceptions for the referenced service information for clarification. We have removed the reference to the APB Alert Service Bulletin AP757-53-001, Revision 1, dated June 21, 2017, from paragraph (h)(2) of this AD. We have also added paragraph (h)(3) to this AD to specify the exception for the APB service bulletin. Paragraphs (h)(2) and (h)(3) of this AD specify exceptions to the referenced service information instructions, and are intended to be used to determine compliance, relative to the effective date of this AD instead of the issue date of the service information. We have also included the requested quotations in paragraphs (h)(2) and (h)(3) of this AD.

Request To Clarify Inspection Location

United Airlines (UAL) asked that the actions identified in Figures 5 and 6, Note (a), of Boeing Alert Service Bulletin 757-53A0108, dated November 14, 2016, be clarified. UAL stated that while Figures 5 and 6 correctly depict the required inspection areas, the task associated with circle action “2” for each figure specifies a high frequency eddy current (HFEC) inspection, which cannot be done around the fasteners common to the inner chord strap. UAL asked that this discrepancy be addressed in the AD in order to avoid the need for approval of requests for an alternative method of compliance (AMOC).

We agree with the commenter's request, for the reason provided. We have added paragraph (h)(4) to the exceptions in this AD to clarify that an HFEC inspection of the two fasteners located below the lower edge of the intercostal strap at the locations specified in Figures 5 and 6, Note (a), of Boeing Alert Service Bulletin 757-53A0108, dated November 14, 2016, is not required by this AD.

Request To Clarify Compliance Timeframe

Delta Airlines (DAL) asked that we clarify the language used in paragraph (h)(2) of the proposed AD. DAL stated that the phrase “after the original issue of this service bulletin” should be clarified by inserting the word “date” after “issue” to match the compliance time specified in paragraph 1.E., “Compliance” of Boeing Alert Service Bulletin 757-53A0108, dated November 14, 2016.

We agree with the commenter's request to include the word “date” in the phrase “after the original issue of this service bulletin” as corrected in paragraph (h)(2) of this AD, because it was inadvertently omitted in the proposed AD. The same language is included in paragraph (h)(3) of this AD.

Request To Clarify Compliance Determination

DAL asked that a new paragraph be added to paragraph (h) of this AD to clarify using the phrase “at the original issue date of this service bulletin” to determine airplane configuration, and to provide credit for inspections done before the effective date of the AD. DAL added that these changes would avoid the need for operators to request AMOCs.

We agree to clarify. We have revised paragraph (h)(2) of this AD and included similar language in paragraph (h)(3) of this AD to clarify that the exceptions apply to both compliance times and airplane configurations. In addition, paragraph (f) of this AD requires compliance with this AD within the compliance times specified, unless the actions have already been done. Therefore, paragraph (f) of this AD already gives credit for inspections done before the effective date of this AD.

Request To Clarify Airplane Groups

FedEx Express (FedEx) and VT Mobile Aerospace Engineering (VT MAE) asked that we revise the proposed AD to specify the inspections, methods, and compliance times given in Boeing Alert Service Bulletin 757-53A0108, dated November 14, 2016, but under a different group designation for the FedEx fleet of Model 757-200 airplanes. The commenters stated that these airplanes were converted by VT MAE supplemental type certificate (STC) ST03562AT to a configuration similar to that of Model 757-200SF airplanes (identified as Groups 2 and 5), and that FedEx's fleet is therefore no longer configured as passenger airplanes. FedEx stated that Boeing Alert Service Bulletin 757-53A0108, dated November 14, 2016, identifies the FedEx Model 757-200 fleet as Groups 1 and 4, and that the inspection areas defined for these groups have been modified in accordance with the STC and are no longer applicable.

We agree with the commenters' requests. The VT MAE STC modification to the STA 1640 frame is identical to the modification of Boeing 757-200 special freighter airplanes; the inspections specified in Boeing Alert Service Bulletin 757-53A0108, dated November 14, 2016, as listed under different airplane groups should be used for the FedEx fleet. We have added paragraph (g)(3) to this AD to clarify the requirements for those airplanes.

Request To Add Affected AD

Boeing asserted that AD 2006-11-11, Amendment 39-14615 (71 FR 30278; May 26, 2006) (“AD 2006-11-11”), would affect the actions of the proposed AD and asked that we add that AD to paragraph (b) of this AD (“Affected ADs”). Boeing added that Boeing Alert Service Bulletin 757-53A0108, dated November 14, 2016, was approved as an AMOC to AD 2006-11-11 for the inspections of the inboard chord and inboard chord strap in the area around stringer 14, which is common to part of 53-60-15 listed in Section 9 of the Maintenance Planning Data (MPD) document.

We acknowledge the commenter's rationale for including AD 2006-11-11 in paragraph (b) of this AD. However, paragraph (b), “Affected ADs,” is intended to include other affected ADs, but not all related ADs. It is primarily used to reference superseded ADs and other ADs that are terminated, in whole or in part, by requirements in a given AD. Therefore, we have made no change to this AD in this regard.

Request To Change Corrective Actions

FedEx asked that repetitive inspections of a repair done for a crack finding be required only based on the original equipment manufacturer/STC holder/FAA requirements for that repair. FedEx also asked that the repetitive inspections be terminated for the portion of the inspection area covered by the repair.

We do not agree with the commenter's requests. This AD requires repairing cracks using a method approved by the FAA or Boeing Organization Designation Authorization (ODA), and any relief or required follow-on actions will be included in those approved instructions. Therefore, we have made no change to this AD in this regard.

Conclusion

We reviewed the relevant data, considered the comments received, and determined that air safety and the public interest require adopting this final rule with the changes described previously and minor editorial changes. We have determined that these minor changes:

• Are consistent with the intent that was proposed in the NPRM for correcting the unsafe condition; and

• Do not add any additional burden upon the public than was already proposed in the NPRM.

We also determined that these changes will not increase the economic burden on any operator or increase the scope of this final rule.

Related Service Information Under 1 CFR Part 51

We reviewed Boeing Alert Service Bulletin 757-53A0108, dated November 14, 2016. This service information describes procedures for an inspection of the fuselage frame for existing frame repairs, repetitive high frequency eddy current and low frequency eddy current inspections for cracking in specified areas with no existing frame repair, and repair of any cracking.

We also reviewed APB Alert Service Bulletin AP757-53-001, Revision 1, dated June 21, 2017. This service information provides compliance times for accomplishing the procedures identified in Boeing Alert Service Bulletin 757-53A0108, dated November 14, 2016, for airplanes on which APB blended or scimitar blended winglets are installed.

This service information is reasonably available because the interested parties have access to it through their normal course of business or by the means identified in the ADDRESSES section.

Costs of Compliance

We estimate that this AD affects 606 airplanes of U.S. registry. We estimate the following costs to comply with this AD:

Estimated Costs
Action | Labor cost | Parts cost | Cost per product | Cost on U.S. operators
Inspection for existing frame repairs | 1 work-hour × $85 per hour = $85 | $0 | $85 | $51,510.
Repetitive high and low frequency inspections for Groups 1 through 3 airplanes (598 airplanes) | 48 work-hours × $85 per hour = $4,080 per inspection cycle | 0 | 4,080 | $2,439,840 per inspection cycle.
Repetitive high and low frequency inspections for Groups 4 and 5 airplanes (8 airplanes) | 26 work-hours × $85 per hour = $2,210 per inspection cycle | 0 | 2,210 | $17,680 per inspection cycle.

We have received no definitive data that enables us to provide cost estimates for the on-condition repair specified in this AD.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-06-07 The Boeing Company: Amendment 39-19227; Docket No. FAA-2017-0711; Product Identifier 2017-NM-003-AD.

(a) Effective Date

This AD is effective May 3, 2018.

(b) Affected ADs

None.

(c) Applicability

This AD applies to The Boeing Company Model 757-200, -200CB, and -300 series airplanes, certificated in any category, as identified in Boeing Alert Service Bulletin 757-53A0108, dated November 14, 2016.

(d) Subject

Air Transport Association (ATA) of America Code 53; Fuselage.

(e) Unsafe Condition

This AD was prompted by a report of fatigue cracking found in the fuselage frame at station (STA) 1640, which severed the inner chord and web. We are issuing this AD to detect and correct cracking of the fuselage frame at STA 1640, which could result in reduced structural integrity of the airplane.

(f) Compliance

Comply with this AD within the compliance times specified, unless already done.

(g) Actions Required for Compliance

(1) For all airplanes except those identified in paragraphs (g)(2) and (g)(3) of this AD: Do all applicable actions identified as “RC” (required for compliance) in, and in accordance with, the Accomplishment Instructions of Boeing Alert Service Bulletin 757-53A0108, dated November 14, 2016; except as provided by paragraphs (h)(1) and (h)(4) of this AD. Do the actions at the applicable times specified in paragraph 1.E., “Compliance,” of Boeing Alert Service Bulletin 757-53A0108, dated November 14, 2016, except as provided by paragraph (h)(2) of this AD.

(2) For airplanes on which Aviation Partners Boeing (APB) Alert Service Bulletin AP757-53-001, Revision 1, dated June 21, 2017, blended or scimitar blended winglets are installed in accordance with Supplemental Type Certificate ST01518SE: Do all applicable actions identified as “RC” (required for compliance) in, and in accordance with, the Accomplishment Instructions of APB Alert Service Bulletin AP757-53-001, Revision 1, dated June 21, 2017; and Boeing Alert Service Bulletin 757-53A0108, dated November 14, 2016; except as provided by paragraphs (h)(1) and (h)(4) of this AD. Do the actions at the applicable times specified in paragraph 1.E., “Compliance,” of APB Alert Service Bulletin AP757-53-001, Revision 1, dated June 21, 2017, except as provided by paragraph (h)(3) of this AD.

(3) For airplanes that have been converted from passenger to freighter configuration in accordance with VT Mobile Aerospace Engineering (VT MAE) Supplemental Type Certificate ST03562AT: Do all applicable actions identified as “RC” in, and in accordance with, the Accomplishment Instructions of Boeing Alert Service Bulletin 757-53A0108, dated November 14, 2016; except as provided by paragraphs (h)(1) and (h)(4) of this AD. Do the actions at the applicable times specified in paragraph 1.E., “Compliance,” of Boeing Alert Service Bulletin 757-53A0108, dated November 14, 2016, except as provided by paragraph (h)(2) of this AD. Where Boeing Alert Service Bulletin 757-53A0108, dated November 14, 2016, refers to Group 1 airplanes, the tasks identified under Group 2 airplanes must be done instead; where Boeing Alert Service Bulletin 757-53A0108, dated November 14, 2016, refers to Group 4 airplanes, the tasks identified under Group 5 airplanes must be done instead.

(h) Exceptions to Service Information Specifications

(1) Where Boeing Alert Service Bulletin 757-53A0108, dated November 14, 2016, specifies contacting Boeing for instructions, and specifies that action as RC: This AD requires using a method approved in accordance with the procedures specified in paragraph (i) of this AD.

(2) For purposes of determining compliance with the requirements of this AD: Where Boeing Alert Service Bulletin 757-53A0108, dated November 14, 2016, uses the phrase “the original issue date of this service bulletin,” this AD requires using “the effective date of this AD.”

(3) For purposes of determining compliance with the requirements of this AD: Where APB Alert Service Bulletin AP757-53-001, Revision 1, dated June 21, 2017, uses the phrase “the original issue date of this service bulletin,” this AD requires using “the effective date of this AD.”

(4) Where Figures 5 and 6, Step 2, Note (a), of Boeing Alert Service Bulletin 757-53A0108, dated November 14, 2016, specify a high frequency eddy current (HFEC) inspection for any crack in the fuselage frame inner chord forward bend radius and around the fasteners, between the two fasteners above and below the edges of the intercostal strap, this AD does not require inspecting around the two fasteners located below the lower edge of the intercostal strap at stringer 13.

(i) Alternative Methods of Compliance (AMOCs)

(1) The Manager, Los Angeles ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j) of this AD. Information may be emailed to 9-ANM-LAACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Los Angeles ACO Branch, to make those findings. To be approved, the repair method, modification deviation, or alteration deviation must meet the certification basis of the airplane, and the approval must specifically refer to this AD.

(4) Except as required by paragraph (h)(1) of this AD: For service information that contains steps that are labeled as RC, the provisions of paragraphs (i)(4)(i) and (i)(4)(ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(j) Related Information

For more information about this AD, contact Chandra Ramdoss, Aerospace Engineer, Airframe Section, FAA, Los Angeles ACO Branch, 3960 Paramount Boulevard, Lakewood, CA 90712-4137; phone: 562-627-5239; fax: 562-627-5210; email: chandraduth.ramdoss@faa.gov.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Aviation Partners Boeing (APB) Alert Service Bulletin AP757-53-001, Revision 1, dated June 21, 2017.

(ii) Boeing Alert Service Bulletin 757-53A0108, dated November 14, 2016.

(3) For service information identified in this AD, contact Boeing Commercial Airplanes, Attention: Contractual & Data Services (C&DS), 2600 Westminster Blvd., MC 110-SK57, Seal Beach, CA 90740; telephone: 562-797-1717; internet: https://www.myboeingfleet.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Renton, Washington, on March 2, 2018.
Michael Kaszycki,
Acting Director, System Oversight Division, Aircraft Certification Service.

[FR Doc. 2018-05017 Filed 3-28-18; 8:45 am]

BILLING CODE 4910-13-P